DEPARTMENT OF THE TREASURY

Financial Crimes Enforcement Network

31 CFR Part 1010

Imposition of Special Measures Prohibiting Certain Transmittals of Funds Involving CIBanco S.A., Institución de Banca Multiple, Intercam Banco S.A., Institución de Banca Multiple, and Vector Casa de Bolsa, S.A. de C.V.; Extension of Effective Date

AGENCY: Financial Crimes Enforcement Network (FinCEN), Treasury.

ACTION: Order; extension of effective date.

SUMMARY: FinCEN is issuing notice of an order amending its three June 2025 orders, as amended by its July 2025 order, prohibiting certain transmittals of funds involving CIBanco S.A., Institución de Banca Multiple (CIBanco), Intercam Banco S.A., Institución de Banca Multiple (Intercam), and Vector Casa de Bolsa, S.A. de C.V. (Vector), financial institutions operating outside of the United States determined to be of primary money laundering concern in connection with illicit opioid trafficking. This order extends the effective date of the three prior orders to October 20, 2025.

DATES: The effective date of the orders issued June 30, 2025, at 90 FR 27764, 90 FR 27770, and 90 FR 27777, and extended in the order issued July 11, 2025, at 90 FR 30826, is extended to October 20, 2025.

FOR FURTHER INFORMATION CONTACT: The FinCEN Resource Center at http://www.fincen.gov/contact.

SUPPLEMENTARY INFORMATION:

I. Summary of Order

On June 25, 2025, the U.S. Department of the Treasury's Financial Crimes Enforcement Network (FinCEN) issued three separate orders identifying Mexico-based financial institutions CIBanco S.A., Institution de Banca Multiple (CIBanco), Intercam Banco S.A., Institución de Banca Multiple (Intercam), and Vector Casa de Bolsa, S.A. de C.V. (Vector) as being of primary money laundering concern in connection with illicit opioid trafficking and prohibiting certain transmittals of funds involving those financial institutions.¹ The orders were published June 30, 2025, with an effective date of 21 days from publication in the Federal Register, thereby becoming effective July 21, 2025.²

¹ FinCEN, Press Release, Treasury Issues Unprecedented Orders under Powerful New Authority to Counter Fentanyl (June 25, 2025), https://www.fincen.gov/news/news-releases/treasury-issues-unprecedented-orders-under-powerful-new-authority-counter.

² Imposition of Special Measure Prohibiting Certain Transmittals of Funds Involving CIBanco S.A., Institución De Banca Multiple, 90 FR 27770 (June 30, 2025); Imposition of Special Measure Prohibiting Certain Transmittals of Funds Involving Intercam Banco S.A., Institución de Banca Multiple, 90 FR 27777 (June 30, 2025); Imposition of Special Measure Prohibiting Certain Transmittals of Funds Involving Vector Casa de Bolsa, S.A. de C.V., 90 FR 27764 (June 30, 2025).

On July 11, 2025, FinCEN extended the effective date for all three orders by 45 days, from July 21, 2025, to September 4, 2025.³ With this order, FinCEN is extending the effective date for all three orders from September 4, 2025, to October 20, 2025. A copy of this order will be published in the Federal Register. To the extent that CIBanco, Intercam, Vector, or parties have information relevant to this order, they may submit it to FinCEN at www.fincen.gov/contact.

³ Imposition of Special Measures Prohibiting Certain Transmittals of Funds Involving CIBanco S.A., Institution de Banca Multiple, Intercam Banco S.A., Institución de Banca Multiple, and Vector Casa de Bolsa, S.A. de C.V.; Extension of Effective Date, 90 FR 30826 (July 11, 2025).

II. Order

A. Definitions

1. June 25, 2025 Orders

This order defines June 25, 2025, Orders as the three orders published in the Federal Register on June 30, 2025, prohibiting certain transmittals of funds involving, respectively, CIBanco S.A., Institución De Banca Multiple, Intercam Banco S.A., Institución de Banca Multiple, and Vector Casa de Bolsa, S.A. de C.V. and published, respectively, at 90 FR 27770, 90 FR 27777, and 90 FR 27764.

2. July 11, 2025 Order

This order defines July 11, 2025 Order as the order published in the Federal Register on July 11, 2025 at 90 FR 30826.

3. Meaning of Other Terms

All terms used but not otherwise defined herein shall have the meaning set forth in 31 CFR Chapter X, 31 U.S.C. 5312, and 21 U.S.C. 2302.

B. Amendment of Order

This order amends the June 25, 2025, Orders, as amended by the July 11, 2025 Order, by extending the effective date of all three actions to October 20, 2025.

All other provisions of the June 25, 2025, Orders remain unchanged.

Jimmy L. Kirby,
Deputy Director, Financial Crimes Enforcement Network.

[FR Doc. 2025-16080 Filed 8-21-25; 8:45 am]

BILLING CODE 4810-02-P